FEDERAL DEPOSIT INSURANCE CORPORATION

RIN 3064-ZA44

Notice of Inflation Adjustments for Civil Money Penalties

AGENCY: Federal Deposit Insurance Corporation.

ACTION: Notice of monetary penalties for 2025.

SUMMARY: The Federal Deposit Insurance Corporation is providing notice of its maximum civil money penalties as adjusted for inflation.

DATES: The adjusted maximum amounts of civil money penalties in this notice are applicable to penalties assessed after January 15, 2025, for conduct occurring on or after November 2, 2015.

FOR FURTHER INFORMATION CONTACT: Graham N. Rehrig, Acting Deputy Regional Counsel, Legal Division, 703-314-3401, grehrig@fdic.gov; Federal Deposit Insurance Corporation, 15 Braintree Hill Office Park, Braintree, MA 02184-8701.

SUPPLEMENTARY INFORMATION: This notice announces changes to the maximum amount of each civil money penalty (CMP) within the Federal Deposit Insurance Corporation's (FDIC) jurisdiction to administer to account for inflation under the Federal Civil Penalties Inflation Adjustment Act of 1990 (1990 Adjustment Act),¹ as amended by the Federal Civil Penalties Inflation Adjustment Act Improvements Act of 2015 (2015 Adjustment Act).² Under the 1990 Adjustment Act, as amended, Federal agencies must make annual adjustments to the maximum amount of each CMP the agency administers. The Office of Management and Budget (OMB) is required to issue guidance to Federal agencies no later than December 15 of each year providing an inflation-adjustment multiplier (that is, the inflation-adjustment factor agencies must use) applicable to CMPs assessed in the following year.

¹ Public Law 101-410, 104 Stat. 890, codified at 28 U.S.C. 2461 note.

² Public Law 114-74, 701(b), 129 Stat. 599, codified at 28 U.S.C. 2461 note.

Agencies are required to publish their CMPs, adjusted under the multiplier provided by the OMB, by January 15 of the applicable year. Agencies like the FDIC that have codified the statutory formula for making the CMP adjustments may make annual inflation adjustments by providing notice in the Federal Register.³

³ See Office of Mgmt. & Budget, Exec. Office of the President, OMB Memorandum No. M-25-02, Implementation of Penalty Inflation Adjustments for 2025, Pursuant to the Federal Civil Penalties Inflation Adjustment Act Improvements Act of 2015 4 (Dec. 17, 2024), https://www.whitehouse.gov/wp-content/uploads/2024/12/M-25-02.pdf (OMB Guidance); see also 12 CFR 308.132(d) (FDIC regulation that guides readers to the Federal Register to see the annual notice of CMP inflation adjustments).

On December 17, 2024, the OMB issued guidance to affected agencies on implementing the required annual adjustment, which guidance included the relevant inflation multiplier.⁴ The FDIC has applied that multiplier to the maximum CMPs allowable in 2024 for FDIC-supervised institutions and other parties subject to the FDIC's jurisdiction to calculate the maximum amount of CMPs that may be assessed by the FDIC in 2025.⁵ There were no new statutory CMPs administered by the FDIC during 2024.

⁴ See OMB Guidance at 2 (providing an inflation multiplier of 1.02598).

⁵ Penalties assessed for violations occurring prior to November 2, 2015, will be subject to the maximum amounts set forth in the FDIC's regulations in effect prior to the enactment of the 2015 Adjustment Act.

The following charts provide the inflation-adjusted maximum CMP amounts for use after January 15, 2025—the effective date of the 2025 annual adjustments—under 12 CFR part 308, for conduct occurring on or after November 2, 2015:

Maximum Civil Money Penalty Amounts
U.S. Code citation | Current maximum CMP (through January 14, 2025) | Adjusted maximum CMP ⁶ (beginning January 15, 2025)
12 U.S.C. 1464(v)
Tier One CMP ⁷ | $4,899 | $5,026
Tier Two CMP | 48,992 | 50,265
Tier Three CMP ⁸ | 2,449,575 | 2,513,215
12 U.S.C. 1467(d) | 12,249 | 12,567
12 U.S.C. 1817(a)
Tier One CMP ⁹ | 4,899 | 5,026
Tier Two CMP | 48,992 | 50,265
Tier Three CMP ¹⁰ | 2,449,575 | 2,513,215
12 U.S.C. 1817(c)
Tier One CMP | 4,480 | 4,596
Tier Two CMP | 44,783 | 45,946
Tier Three CMP¹¹ | 2,239,210 | 2,297,385
12 U.S.C. 1817(j)(16)
Tier One CMP | 12,249 | 12,567
Tier Two CMP | 61,238 | 62,829
Tier Three CMP ¹² | 2,449,575 | 2,513,215
12 U.S.C. 1818(i)(2) ¹³
Tier One CMP | 12,249 | 12,567
Tier Two CMP | 61,238 | 62,829
Tier Three CMP ¹⁴ | 2,449,575 | 2,513,215
12 U.S.C. 1820(e)(4) | 11,198 | 11,489
12 U.S.C. 1820(k)(6) | 402,920 | 413,388
12 U.S.C. 1828(a)(3) | 153 | 157
12 U.S.C. 1828(h) ¹⁵
For assessments < $10,000 | 153 | 157
12 U.S.C. 1829b(j) | 25,597 | 26,262
12 U.S.C. 1832(c) | 3,558 | 3,650
12 U.S.C. 1884 | 356 | 365
12 U.S.C. 1972(2)(F)
Tier One CMP | 12,249 | 12,567
Tier Two CMP | 61,238 | 62,829
Tier Three CMP ¹⁶ | 2,449,575 | 2,513,215
12 U.S.C. 3909(d) | 3,047 | 3,126
15 U.S.C. 78u-2
Tier One CMP (individuals) | 11,524 | 11,823
Tier One CMP (others) | 115,231 | 118,225
Tier Two CMP (individuals) | 115,231 | 118,225
Tier Two CMP (others) | 576,158 | 591,127
Tier Three CMP (individuals) | 230,464 | 236,451
Tier Three CMP (others) | 1,152,314 | 1,182,251
15 U.S.C. 1639e(k)
First violation | 14,069 | 14,435
Subsequent violations | 28,135 | 28,866
31 U.S.C. 3802 | 13,946 | 14,308
42 U.S.C. 4012a(f) | 2,661 | 2,730

CFR Citation | Current presumptive CMP (through January 14, 2025) | Adjusted presumptive CMP (beginning January 15, 2025)
12 CFR 308.132(e)(1)(i)
Institutions with $25 million or more in assets
1 to 15 days late | $672 | $689.
16 or more days late | $1,344 | $1,379.
Institutions with less than $25 million in assets
1 to 15 days late ¹⁷ | $225 | $231.
16 or more days late ¹⁸ | $447 | $459.
12 CFR 308.132(e)(1)(ii)
Institutions with $25 million or more in assets
1 to 15 days late | $1,119 | $1,148.
16 or more days late | $2,238 | $2,296.
Institutions with less than $25 million in assets
1 to 15 days late | 1/50,000th of the institution's total assets | 1/50,000th of the institution's total assets.
16 or more days late | 1/25,000th of the institution's total assets | 1/25,000th of the institution's total assets.
12 CFR 308.132(e)(2) | $48,992 | $50,265.
12 CFR 308.132(e)(3)
Tier One CMP | $4,899 | $5,026.
Tier Two CMP | $48,992 | $50,265.
Tier Three CMP ¹⁹ | $2,449,575 | $2,513,215.

Federal Deposit Insurance Corporation.
Dated at Washington, DC on January 8, 2025.
Debra A. Decker,
Executive Secretary.

[FR Doc. 2025-00643 Filed 1-13-25; 8:45 am]

BILLING CODE 6714-01-P